DEPARTMENT OF COMMERCE

International Trade Administration

[A-475-059, A-588-068]

Continuation of Antidumping Duty Findings: Prestressed Concrete Wire Strand from Japan and Pressure Sensitive Plastic Tape From Italy

AGENCY: Import Administration, International Trade Administration, Department of Commerce.

ACTION: Notice of Continuation of Antidumping Duty Findings: Prestressed Concrete Wire Strand from Japan and Pressure Sensitive Plastic Tape from Italy.

SUMMARY: The Department of Commerce (“the Department”), pursuant to sections 751(c) and 752 of the Tariff Act of 1930, as amended (“the Act”), determined that revocation of the antidumping duty findings on prestressed concrete wire strand from Japan and pressure sensitive plastic tape from Italy, would be likely to lead to continuation or recurrence of dumping.¹

¹ See Prestressed Concrete Wire Strand From Japan; Final Results of Expedited Sunset Review of Antidumping Finding, 69 FR 25563 (May 7, 2004); Pressure Sensitive Plastic Tape From Italy; Final Results of the Second Sunset Review of Antidumping Duty Finding, 69 FR 26068 (May 11, 2004) (“Department's Final Results”).

On June 14, 2004, the International Trade Commission (“the Commission”), pursuant to section 751(c) of the Act, determined that revocation of the antidumping duty findings on prestressed concrete wire strand from Japan and pressure sensitive plastic tape from Italy, would be likely to lead to continuation or recurrence of material injury to an industry in the United States within a reasonably foreseeable time.² Therefore, pursuant to 19 CFR 351.218(f)(4), the Department is publishing notice of the continuation of the antidumping duty findings on prestressed concrete wire strand from Japan and pressure sensitive plastic tape from Italy.

² See Pressure Sensitive Plastic Tape from Italy and Prestressed Concrete Wire Strand from Japan, 69 FR 33070-33071 (June 14, 2004).

EFFECTIVE DATE: June 25, 2004.

FOR FURTHER INFORMATION CONTACT: Martha V. Douthit, Office of Policy for Import Administration, International Trade Administration, U.S. Department of Commerce, 14th Street and Constitution Ave., NW., Washington, DC 20230; telephone: (202) 482-5050.

SUPPLEMENTARY INFORMATION

Background

On January 2, 2004, the Department initiated, and the Commission instituted, sunset reviews of the antidumping duty findings on prestressed concrete wire strand from Japan and pressure sensitive plastic tape from Italy pursuant to section 751(c) of the Act.³ As a result of its reviews, the Department found that revocation of the antidumping duty findings would be likely to lead to continuation or recurrence of dumping, and notified the Commission of the magnitude of the margins likely to prevail were the order to be revoked. See Department's Final Results.

³ See Five-Year (“Sunset”) Reviews, 69 FR 50 (January 2, 2004).

On June 14, 2004, the Commission determined, pursuant to section 751(c) of the Act, that revocation of the antidumping duty findings on prestressed concrete wire strand from Japan and pressure sensitive plastic tape from Italy would be likely to lead to continuation or recurrence of material injury to an industry in the United States within a reasonably foreseeable time. See Pressure Sensitive Plastic Tape from Italy and Prestressed Concrete Wire Strand from Japan, 69 FR 33070-33071 (June 14, 2004), Pressure Sensitive Plastic Tape from Italy and Prestressed Concrete Wire Strand from Japan: Investigation Nos. AA1921-167 and AA1921-188 (Second Reviews), and USITC Publications 3698-3699 (June 2004).

Scope

Italy

Imports covered by this sunset review are shipments of pressure sensitive plastic tape (“PSPT”) measuring over 1 ⅜ inches in width and not exceeding 4 mils in thickness. The above described PSPT was classified under Harmonized Tariff Schedule (“HTS”) subheadings 3919.90.20 and 3919.90.50. The HTS subheadings are provided for convenience and for U.S. Customs purposes. The written description remains dispositive as the scope of the product coverage.

Japan

The products covered in this sunset review are shipments of steel wire strand, other than alloy steel, not galvanized, which are stress-relieved and suitable for use in prestressed concrete. Such merchandise is currently classifiable under HTS item number 7312.10.30.12. The HTS item number is provided for convenience and Customs purposes. The written description remains dispositive as the scope of the product coverage.

Determination

As a result of the determinations by the Department and the Commission that revocation of these antidumping duty findings would be likely to lead to continuation or recurrence of dumping and material injury to an industry in the United States, pursuant to section 751(d)(2) of the Act, the Department hereby orders the continuation of the antidumping duty findings on prestressed concrete wire strand from Japan and pressure sensitive plastic tape from Italy.

The Department will instruct Customs to continue to collect antidumping duty deposits at the rates in effect at the time of entry for all imports of subject merchandise. The effective date of continuation of these findings will be the date of publication in the Federal Register of this Notice of Continuation. Pursuant to section 751(c)(2) and 751(c)(6) of the Act, the Department intends to initiate the next five-year review of these findings not later than May 2009.

Dated: June 21, 2004.
James J. Jochum,
Assistant Secretary for Import Administration.

[FR Doc. 04-14489 Filed 6-24-04; 8:45 am]

BILLING CODE 3510-DS-P